DEPARTMENT OF TRANSPORTATION

National Highway Traffic Safety Administration

[U.S. DOT Docket No. NHTSA-2011-0073]

Reports, Forms, and Recordkeeping Requirements

AGENCY: National Highway Traffic Safety Administration (NHTSA), DOT.

ACTION: Request for extension of information collection 2127-0634.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before August 9, 2011.

ADDRESSES: You may submit comments identified by DOT Docket ID Number NHTSA-2011-0073 using any of the following methods:

Electronic submissions: Go to http://www.regulations.gov. Follow the on-line instructions for submitting comments.

Mail: Docket Management Facility, M-30, U.S. Department of Transportation, 1200 New Jersey Avenue, SE., West Building Ground Floor, Room W12-140, Washington, DC 20590.

Hand Delivery: West Building Ground Floor, Room W12-140, 1200 New Jersey Avenue, SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue, SE., W46-499, Washington, DC 20590. Mr. Block's phone number is 202-366-6401 and his email address is alan.block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA is requesting an extension of information collection 2127-0634:

National Survey of Drinking and Driving Attitudes and Behavior

Type of Request—Extension.

OMB Clearance Number—2127-0634.

Form Number—NHTSA Form 1050.

Requested Expiration Date of Approval—3 years from date of approval of extension.

Summary of the Collection of Information—NHTSA proposes to continue its periodic administration of the National Survey of Drinking and Driving Attitudes and Behavior. The survey was last administered in 2008. The next administration of the survey would be a minimum of 5 years after that date. It would be conducted by telephone among a national probability sample of 6,000 adults (age 16 and older) drawn from all 50 States and the District of Columbia. Participation by respondents would be voluntary. Survey topics would include frequency of drinking and driving and of riding with a driver who has been drinking, ways to prevent alcohol-impaired driving, enforcement of drinking and driving laws, and understanding of Blood Alcohol Concentration (BAC) levels and legal limits.

In conducting the proposed telephone interviews, the interviewers would use computer-assisted telephone interviewing to reduce interview length and minimize recording errors. A Spanish-language translation and bilingual interviewers would be used to minimize language barriers to participation. The proposed survey would be anonymous; the survey would not collect any personal information that would allow anyone to identify respondents. Participant names would not be collected during the interview and the telephone number used to reach the respondent would be separated from the data record prior to its entry into the analytical database.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Nearly one-third of traffic fatalities each year occur in crashes that involve an alcohol-impaired driver (in which a driver or motorcycle rider had a blood alcohol concentration, or BAC, of .08 or greater). NHTSA has developed and demonstrated a range of countermeasures to address the problem. Yet while effective countermeasures have been identified, there remains a need for NHTSA to periodically update its information concerning the public's attitudes and behaviors regarding drinking and driving to determine if changes have occurred towards which current programs and program planning must adapt. NHTSA began measuring the driving age public's attitudes and behaviors regarding drinking and driving in 1991. The proposed survey, last administered in 2008, will collect data on topics included in the earlier surveys in the series, including: frequency of drinking and driving and of riding with a driver who has been drinking, ways to prevent alcohol-impaired driving, enforcement of drinking and driving laws, and understanding of BAC levels and legal limits.

NHTSA will use the findings from this proposed information collection to help focus current programs and activities to achieve the greatest benefit, to develop new programs to decrease the likelihood of alcohol-impaired driving, and to provide informational support to States, localities, and law enforcement agencies that will aid them in their efforts to reduce drinking and driving crashes and injuries.

Description of the Likely Respondents (Including Estimated Number, and Proposed Frequency of Response to the Collection of Information)—Under this proposed effort, the Contractor would conduct 15 pretest telephone interviews and 6,000 national survey telephone interviews for a total of 6,015 interviews. The pretest interviews would be administered to test the computer programming of the questionnaire, and to determine if any last adjustments to the questionnaire are needed. The telephone interviews will be conducted with respondents age 16 and older, with over-sampling of respondents 16 through 24. Interview length will average 20 minutes. Interviews would be conducted with respondents at residential phone numbers selected through random digit dialing. Interviews would be conducted both with respondents using landline phones and respondents using cell phones. Businesses are ineligible for the sample and would not be interviewed. No more than one respondent would be selected per household. All respondents will be administered the survey one time only.

Estimate of the Total Annual Reporting and Recordkeeping Burden Resulting from the Collection of Information—NHTSA estimates that respondents would require an average of 20 minutes to complete the telephone interviews or a total of 2,005 hours for the 6,015 respondents. All interviewing would occur during a two-to-three month period during a single calendar year. Thus the annual reporting burden would be the entire 2,005 hours. The respondents would not incur any reporting cost from the information collection. The respondents also would not incur any recordkeeping burden or recordkeeping cost from the information collection.

Authority: 44 U.S.C. 3506(c)(2)(A).

Jeff Michael,
Associate Administrator, Research and Program Development.

[FR Doc. 2011-14466 Filed 6-9-11; 8:45 am]

BILLING CODE 4910-59-P